DEPARTMENT OF TRANSPORTATION

Federal Transit Administration

Announcement of Project Selections of Fiscal Year 2009 Recipients of Transit Investments for Greenhouse Gas and Energy Reduction (TIGGER) Grants; Response to Comments

AGENCY: Federal Transit Administration (FTA), DOT.

ACTION: Notice of project selections; response to comments.

SUMMARY: The American Recovery and Reinvestment Act of 2009 (ARRA) appropriated $100 million for a new discretionary grant program for public transportation projects that reduce a transit system's greenhouse gas emissions or results in a decrease in a transit system's energy use.

This notice announces the selection of the grant recipients and responds to the comments received in response to the request for comments on the program structure and requirements in FTA's Notice of Funding Availability.

FOR FURTHER INFORMATION CONTACT: For general program information, contact Walter Kulyk, Office of Mobility Innovation, (202) 366-4995, e-mail: walter.kulyk@dot.gov. Project selectees should contact the appropriate FTA Regional Office in Appendix B for application-specific information and issues.

SUPPLEMENTARY INFORMATION: FTA published a Notice of Funding Availability (NOFA) on March 24, 2009 (74 FR 12447), seeking program applications for Transit Investments for Greenhouse Gas and Energy Reduction (TIGGER) grants and inviting interested parties to comment on the program elements as outlined in the NOFA.

FTA received 224 applications proposing 561 projects, which totaled over $2 billion. Because of the intense demand for the $100 million, FTA was unable to fund all eligible applications, and as stated in the NOFA, to maximize the impact of the program, some applicants were provided with less than the full amount of funding requested in their application.

In this notice, FTA is publishing its list of TIGGER program selectees and responding to comments received in response to the NOFA.

Table of Contents

I. Background and Funding Opportunity Description

II. Basis for Allocation

III. General Program and Award Information

IV. Response to Comments

Appendix A—Table of Allocations

Appendix B—Regional Contact Information

I. Background and Funding Opportunity Description

The American Recovery and Reinvestment Act (ARRA) (Pub. L. 111-5) provided $8.4 billion to the Federal Transit Administration (FTA) for transit capital improvements and reinvestment. Of this $8.4 billion, $100 million was appropriated for a new program to provide funding to public transit agencies for capital investments to assist in reducing the energy consumption or greenhouse gas emissions of their public transportation systems. In response, FTA developed the Transit Investments for Greenhouse Gas and Energy Reduction (TIGGER) program.

Because of statutory provisions for this ARRA funding, the NOFA requested that all proposals be submitted by May 22, 2009, while at the same time seeking comments on the proposed program outline, structure, and requirements. FTA reviewed the comments received during the comment period and determined that no substantive changes to the program were required, although FTA is responding to them in this Notice.

ARRA specified two types of eligible investments under the TIGGER program: first, for capital investments that will assist in reducing the energy consumption of a transit system; and, second, for capital investments that will reduce greenhouse gas emissions of a public transportation system. Proposals for projects were accepted under either or both categories. To ensure that the purposes of the ARRA are met, FTA established a range of funding that will be considered for approval. Each submitted proposal had to meet a minimum threshold of $2,000,000. FTA allowed consolidated proposals from transit agencies to reach this $2,000,000 threshold; thus, individual projects within a proposal may receive less than $2,000,000. Conversely, to ensure a variety of funded projects, FTA established a maximum grant amount of $25,000,000.

II. Basis for Allocation

This notice allocates all ARRA funding for the TIGGER Program. In making these allocations, FTA considered both the specific direction provided in the legislation as well as Congress' and the Administration's general objectives for accountability and transparency in the administration of ARRA funds. These objectives include the prompt and fair distribution of funding, the assurance that funds are being used for authorized purposes, and that instances of waste, fraud, and abuse are avoided.

Energy consumption reduction and greenhouse gas reduction projects were evaluated separately. An applicant could request evaluation under both criteria if it provided the necessary project measurement information. Two criteria were specific to energy consumption reduction projects and one criterion was specific to greenhouse gas reduction projects. The remaining criteria applied to all projects.

A. Project Evaluation Criteria for Energy Consumption Reduction Projects

FTA evaluated projects on total energy consumption savings projected to result from the project, and projected energy savings of the project as a percentage of the total energy usage of the public transit agency.

B. Project Evaluation Criterion for Greenhouse Gas Emission Reduction Projects FTA

Evaluated projects based on the total amount of greenhouse gas reductions projected to result from the project.

C. Project Evaluation Criteria for All Projects FTA

Evaluated all projects on the following criteria:

(1) Return on Investment. This includes the ratio of energy savings or greenhouse gas reductions per dollar of Federal TIGGER funds invested.

(2) Project Readiness. The Project Is Ready To Implement.

a. Any required environmental work has been initiated for construction projects requiring an Environmental Finding.

b. Implementation plans are ready, including initial design of facilities projects.

c. The Transportation Improvement Plan (TIP) and Statewide Transportation Improvement Plan (STIP) can be amended.

d. Project funding can be obligated and implemented quickly, if selected.

(3) The applicant demonstrates the capacity to carry out the project.

a. The applicant is in fundable status for the FTA grant program

b. The applicant demonstrates the technical capacity to carry out the project including the project approach or project management plan.

c. The applicant has systems and internal controls in place that allow it to separately track and report ARRA funds even used to fund an existing project/activity.

d. The applicant has the ability to collect information and demonstrate the results of the project for at least one year following project implementation. (But note that useful life criteria apply for FTA funded assets.)

(4) Project Innovation

The project identifies a unique, significant, or innovative approach to reducing energy consumption or greenhouse gas emissions not currently in widespread practice within the transit industry or an approach distinct from the other proposals received by FTA.

(5) The national applicability of the project as an example of energy savings or greenhouse gas reductions including whether the project could be replicated by other transit agencies regionally or nationally.

D. Review and Selection Process

After screening projects for eligibility, projects were evaluated based on the established technical criteria. Projects were selected to build a portfolio of a range of technological solutions and national applicability that will maximize the impact of the program. Funding levels, when less that the amount requested, were based on a determination of the amount required for a viable project.

The allocation of TIGGER Program funding is presented in the Appendix A of this notice.

III. General Program and Award Information

A. Award Notices

As set forth in the NOFA, FTA pre-screened all proposals to determine that all required eligibility elements were present. Because FTA will manage TIGGER grants through FTA's TEAM grant management system, selectees must work with the appropriate FTA Regional Office to ensure that they are part of the TEAM grants management system and are in compliance with the standard Federal requirements contained in 49 U.S.C. Chapter 53 and additional requirements specified in ARRA.

B. Administrative and National Policy Requirements

Information about the requirements for FTA grant programs funded by ARRA can be found in Federal Register Notice E9-4745 American Recovery and Reinvestment Act of 2009 Public Transportation Apportionments, Allocations and Grant Program Information, (74 FR 9656, March 5, 2009) and subsequent information posted on FTA's Recovery Act webpage at http://www.fta.dot.gov/recovery.

1. FTA Grant Requirements

Selectees must comply with the usual and customary FTA grant requirements of 49 U.S.C. Chapter 53, including those of the current version of FTA Circular 5010 and the FTA Master Agreement. Discretionary grants greater than $1,000,000 will go through the Congressional notification process. Technical assistance regarding these requirements is available from each FTA regional office.

All recipients and their sub-awardees are required to have a Dun and Bradstreet Universal Numbering System (DUNS) number (http://www.dnb.com) and direct recipients must have a current registration in the Central Contractor Registration database http://www.ccr.gov.

Recipients of ARRA funds must have systems and internal controls that allow them to separately track and report ARRA funds even if the funds are being used to fund an existing project/activity.

The Applicant must submit current Certifications and Assurances prior to receiving a grant. The Applicant must assure that it will comply with all applicable Federal statutes, regulations, executive orders, FTA circulars, and other Federal administrative requirements in carrying out any project supported by the FTA grant. The Applicant must acknowledge that it is under a continuing obligation to comply with the terms and conditions of the grant agreement issued for its project with FTA. The Applicant must understand that Federal laws, regulations, policies, and administrative practices might be modified from time to time and that could affect the implementation of the project. The Applicant must agree that the most recent Federal requirements will apply to the project, unless FTA issues a written determination otherwise.

2. ARRA Reporting Requirements

As a condition of award, recipients receiving ARRA funds will be required to report on grant activities on a routine basis. FTA recipients will be responsible for reporting up-to-date and accurate grant management information in a milestone status report and financial status report on a quarterly basis, as well as additional data in compliance with Sections 1201 and 1512 of the Act. Additionally, special certifications and grant conditions also will be required of ARRA grant recipients, such as:

a. One-Time Funding. The Recipient acknowledges that receipt of ARRA funds is a “onetime” disbursement that does not create any future obligation by the FTA to advance similar funding amounts.

b. Integrity. The Recipient agrees that all data it submits to FTA in compliance with ARRA requirements will be accurate, objective, and of the highest integrity.

c. Violations of Law. The Recipient agrees that it and its subrecipients shall report any credible evidence that a principal, employee, agent, contractor, subrecipient, subcontractor, or other person has submitted a false claim under the False Claims Act or has committed a criminal or civil violation of law pertaining to fraud, conflict of interest, bribery, gratuity, or similar misconduct involving ARRA funds.

d. Maintenance of Effort. A Recipient that is a State agrees to comply with the maintenance of effort certification it has made in compliance with Section 1201 of ARRA.

e. Emblems. The Recipient agrees to identify projects supported by FTA by attaching the appropriate emblems as the Federal Government may require.

f. Reporting Requirements. In addition to other Federal reporting requirements applicable to the type of project undertaken, the Recipient agrees to:

(1) Comply with the periodic reporting requirements consistent with section 1201 of ARRA.

(2) Comply with the quarterly reporting requirements consistent with section 1512 of ARRA.

The Recipient will report on the use of the funds and on the status of compliance with the National Environmental Policy Act by submitting the Standard Form-Performance Progress Report-Recovery form not later than 10 days after the end of each calendar quarter to FTA. The Recipient agree to obtain a DUNS number (http://www.dnb.com) for any first tier subrecipient that does not have a DUNS number, and agrees to maintain active and current profiles in the Central Contractor Registration database (http://www.ccr.gov).

3. Special TIGGER Reporting Requirements

A recipient of TIGGER funds must report on an annual basis on all active TIGGER grants and must submit a final report at the time of grant close-out:

(1) Actual annual energy consumed within the project scope attributable to the investment, for energy consumption reduction projects;

(2) Actual greenhouse gas emissions within the project scope attributable to the investment, for greenhouse gas reduction projects;

(3) Actual annual reductions or increases in operating costs attributable to the investment, for all projects.

4. Planning Requirements

Applicants must notify the appropriate State Department of Transportation and Metropolitan Planning Organization in areas likely to be served by the project funds made available under this program. Incorporation of funded projects in the long range plans and transportation improvement programs of States and metropolitan areas is required of all funded projects.

5. Period of Availability

ARRA requires that all program funds must be obligated by September 30, 2010. However, to ensure full utilization of program funds, FTA requires that all TIGGER program funds allocated in this notice be obligated by March 31, 2010. FTA reserves the right to reallocate unobligated funds to other TIGGER applications. Under ARRA requirements, all funds must be disbursed by September 30, 2015. Any balances remaining after that date will revert to the U.S. Treasury.

IV. Response to Comments

Comment: Can a county submit a grant application that includes a university as a 'public transit agency' thereby allowing us to address GHG emissions in a more comprehensive way given that we are facing non-attainment designation in the upcoming year? We would also like to include them in any energy efficiency efforts through this grant, as well.

FTA Response: Proposers may involve universities as project partners. However, only public transportation agencies are eligible recipients.

Comment: Please check the accuracy of the carbon footprint conversion that you are referring people to in Appendix D of the NOFA. The carbon footprint of fuel combustion is properly determined stoichiometrically plus a 1% correction factor for incomplete combustion. For diesel, EPA's Web site at: http://www.epa.gov/OMS/climate/420f05001.htm shows this calculation in more detail and results in 22.22 lbs CO2/gal diesel (10.7 kg/gal) and not 9.17 kg/gal as stated in Appendix D.

FTA Response: Calculations based on values given under the EPA Web site are acceptable.

Comment: Guidance to applicants is needed from FTA on what equivalent carbon footprint should be used for diesel combustion during idle and cold starts because the average value of 22 tons (sic) CO2/gal is unrealistically low.

FTA Response: Although more CO2 may be emitted during cold engine starts compared to hot starts, this is because more fuel may be consumed during and immediately after a cold start. The (typical) value of 22 pounds CO2/gal is a function of the carbon content of the fuel itself and is not affected by the amount of fuel used or changes in operating conditions. Proposers are allowed to use data from reliable sources that can be substantiated.

Comment: While it is good FTA is supporting green house gas emissions reductions and energy consumption, this division between the two areas is arbitrary. FTA should only have one area. This could negatively impact smaller or medium sized grantees. Under the “Project Innovation” area, the grantee should also provide for an evaluation and dissemination plan. The results of the effort should be conducted in a manner others can review the results. Joint projects with transportation research centers and universities should be encouraged. Under the “Reporting Requirements” the guidance asks for annual reports; however, the notice does not mention the numbers of years this data needs to be reported. It would be logical if the reporting requirement should conclude upon final expenditure of the ARRA funds or two years after start of the project.

FTA Response: ARRA provides for grants for capital investments that will assist in reducing the energy consumption or greenhouse gas emissions of their public transportation systems. It is FTA's intent to carry out independent evaluation of select projects whose results will be widely disseminated. Reporting requirements remain until a project is officially closed.

Comment:

a. When ‘evaluating the Green house Gas Emissions reductions, are you requiring they be performed on a tank to wheel basis or do you want them performed on a wells to wheels basis?

b. If funds other than these grant funds are used to buy down some of the cost of the project, will the ROI Evaluation be performed only assuming the costs applied from the grant funds?

c. Can these grant funds be applied to refueling station infrastructure construction such as hydrogen (an enabling element of GHG Reduction)? If so how should they show the long term GHG reduction associated with the use of this fuel?

d. Can a Transit agency apply for its normal 80% capital bus subsidy at the cost of a conventional bus and also apply for these grant funds to supplement the premium incremental cost of an advanced technology bus? If so will the Return on Investment (ROI) be evaluated only on the grant request amount?

e. Does the proposal have to identify specifically the buses that will be taken out of the fleet if the grant is for new buses?

f. Can you be more explicit about what you consider mainstream technologies and what you consider unique technologies you would like to see bid on this grant?

FTA Response:

a. Evaluation of project proposals was performed on a “tank to wheels” and not on a “well to wheels” basis.

b. The Return on Investment (ROI) evaluation criteria only applied to Federal TIGGER funds invested.

c. Construction costs associated with refueling station infrastructure are an eligible program item if they are part of a project also involving the operation of vehicles that need to be refueled through the use of the station. The calculation of the GHG reduction associated with the use of the fuel dispensed at the station would be based on the consumption of the fuel by the vehicle over its useful life.

d. A project proposal can include the incremental cost of an advanced propulsion system, and the associated ROT will be based on requested TIGGER funding.

e. New buses purchased under the TIGGER program must replace those that have achieved their FTA useful life criteria.

f. Mainstream technologies are generally those available from multiple sources and those that have significant operating experience. Unique technologies were not defined under the TIGGER program to avoid bias towards any specific technology.

Comment: I have one comment and question. Teaming projects are encouraged yet it is unclear to me how entities that team transit agencies, such as consortia, participate in program. My question is, can a consortia team a number of transit agencies together for a proposed submission, and then distribute a selected project to the team of transit agencies? Such teamed projects can gain knowledge and experience with a new technology in a very beneficial way by a highly communicative teaming strategy. How do “teamers” charge for administering teamed-projects?

FTA Response: Under the TIGGER program, grant recipients are limited to single public transit agencies who will be responsible for conducting a project. However, other transit agencies can participate in a project as subrecipients, and their administrative costs are eligible if they contribute to the project.

Comment: We remain concerned that in describing eligible expenses in section 1I.0 of the NOFTA, FTA has excluded fleet expansion, assuming the impact on transit agency emissions and energy consumption would be increased. We believe FTA should instead acknowledge that a fleet expansion, conducted in conjunction with fleet replacement, could reduce overall emissions and energy consumption where, for example, eight inefficient buses were replaced with nine highly efficient buses. The nine new buses in the expanded fleet could still accomplish the program goals.

FTA Response: The purpose of the TIGGER program is to encourage reduction of energy consumption and greenhouse gas (GHG) reduction to the best extent possible without sacrificing service. Fleet expansions were discouraged under the program as they would reduce the competitiveness of the proposed project since the incremental energy use and GHG emission over the life of the expanded fleet would be higher than a replacement fleet of the original size.

Comment: I believe our organization's experience with advanced vehicle technology project-management, performance data collection protocols, project public relations, education, and awareness campaigns, and all FTA recipient requirements would be a valuable asset to individual or multiple transit agencies as they develop and implement Transit Investments for Greenhouse Gas and Energy Reduction (TIGGER) projects. In this regard, I would like to point out a possible administrative weakness of the program and suggest a solution.

Typically, transit agencies and the other eligible recipients listed are not set up to serve as the prime contractor for large projects involving other transit agencies and other states. A project involving multi-city deployment with multiple agencies serving as contractors, for example, would be unwieldy and very difficult to manage for both the agencies and the FTA. However, this challenge can be met by an organization like ours, which can serve as the prime contractor for all of the agencies in this scenario. By providing a centralized, nonprofit project management team, we can better help the FTA ensure that multi-agency TIGGER projects are well planned, executed, reported, and evaluated.

We would like to know if the structure of the program can be changed to allow us to play this Prime Contractor role for potential multiple transit agency demonstration projects.

FTA Response: Under ARRA requirements for TIGGER, only public transit agencies could receive grants directly from FTA.

Comment:

1. Section IV. A. Project Evaluation Criteria for Energy Consumption Reduction Projects: FTA will evaluate projects on total energy consumption savings projected to result from the project, and projected energy savings of the project as a percentage of the total energy usage of the public transit agency. Evaluating the project as a percentage of the total energy usage of the public—transit agency is inconsistent with the examples given under Section III. B.(3). “For example, a project could consist of replacing 10 buses in a 100 vehicle bus fleet with more energy efficient buses. In this case, measurement would focus on the 10 vehicles, not the entire fleet”.

2. Section IV C. (4) Project Innovation. The project identifies a unique, significant, or innovative approach to reducing energy: This criterion is more consistent with pilot or experimental grant projects that may not have long term benefits or sustainability. In addition, this criterion needs specific examples in order to clarify the intent. Examples given under Section III.B.(3) such as making the buses more energy efficient are good projects but don't appear to be consistent with the language provided under Section IV C.(4). We recommend that this section be reworded to encourage purchasing more energy efficient buses such as hybrid.

FTA Response: (1) In order to keep comparisons among different proposals to a common norm, project evaluations were based on total energy consumption savings from the project and the energy savings of the project as a percentage of the total energy usage at the public transit agency. Actual projections on what would be achieved in terms of energy reduction were limited to what the project introduced and did not include non-project elements. The examples given were not inconsistent with this project evaluation approach.

(2) The criterion addressing project innovation was deliberately worded towards non-biasing a particular project or technology.

Comment: My organization's 15 years of experience with advanced vehicle technology project management, performance data collection protocols, project public relations, education, and awareness campaigns, and all FTA presentation and reporting requirements should continue to be a valuable asset to the FTA and its transit agency partners as they develop and implement Transit Investments for Greenhouse Gas and Energy Reduction (TIGGER) projects. Organizations like mine are capable of assuring that TIGGER projects are well planned, executed, and reported. With this in mind, we respectfully submit two questions: (1) Is our role as a subcontractor to transit agencies in the development and execution of TIGGER projects an acceptable one? And (2) If acceptable, will the FTA endorse this role with interested transit agencies?

FTA Response: (I) It is entirely up to the transit agency seeking TIGGER funds to form its team and decide what each member of the team will do. FTA did not limit or suggest how the transit agency should form its team or conduct its project. 2. FTA does not endorse any organization for a formal role in the TIGGER program projects.

Comment: Under the NOFA, can applicants submit proposals that include plans to purchase transit buses that would fit the goals of the program, but have not yet gone through Altoona testing, so do not yet meet FMVSS? The idea is that the prospective vehicle type will have gone through this testing and be put into service within the funding period.

FTA Response: FTA did not limit the type of vehicles that can be purchased. However, the purchase will have to meet the FTA Capital Program requirements before any Federal funding can be committed. We also note FTA's long-standing requirement that buses must certify compliance with applicable FMVSS requirements prior to starting Altoona testing.

Issued on: Oct. 6, 2009.
Peter M. Rogoff,
Administrator.

[FR Doc. E9-24479 Filed 10-9-09; 8:45 am]

BILLING CODE 4910-57-P